DEPARTMENT OF COMMERCE

National Oceanic and Atmospheric Administration

[Docket No. 050317077-5077-01; I.D. 032205A]

Environmental Literacy Grants

AGENCY: Office of Education and Sustainable Development (OESD), Office of the Undersecretary of Commerce for Oceans and Atmosphere (USEC), National Oceanic and Atmospheric Administration (NOAA), Department of Commerce (DOC)

ACTION: Notice and request for proposals.

SUMMARY: This notice announces that OESD is soliciting 1- to 3-year proposals for environmental literacy projects. Funded projects will further NOAA's education goals articulated in the NOAA Education Plan http://www.oesd.noaa.gov/NOAA_Ed_Plan.pdf. Funding is available to encourage the development of partnerships and to support existing, or foster growth of new, environmental literacy projects. This program has two funding priorities for FY05: (1) Partnerships that promote systemic change in NOAA-related science education, and (2) Innovative presentation of NOAA science and earth observing data through educational data visualizations and other educational tools. Within priority two, NOAA has committed to funding the installation of up to four “Science on a Sphere” (SOS) data systems at informal education venues. These “Science on a Sphere” installations will be funded by way of one- to three-year cooperative agreements. It is anticipated that final recommendations for funding under this announcement will be made in mid Calendar Year 2005, and that projects funded under this announcement will have a start date no earlier than September 30, 2005.

DATES: The deadline for receipt of proposals is 5 p.m. EDT on May 12, 2005.

ADDRESSES: Applications should be submitted through the following website: (http://www.grants.gov). The full text of the funding opportunity announcement for this OESD program can be accessed via the same website. If an applicant does not have Internet access, hard copies of full proposals should be sent to Sarah Schoedinger, DOC/NOAA, Office of Education and Sustainable Development, 14th and Constitution Avenue NW, HCHB 6863, Washington, DC 20230. Application kits may be requested from Sarah Schoedinger at 202-482-2893 or Beth Day at 301-713-2431 x 148. This announcement will also be available at the NOAA Web site: http://www.ofa.noaa.gov/%7Eamd/SOLINDEX.HTML or by contacting the program officials identified in FOR FURTHER INFORMATION CONTACT.

FOR FURTHER INFORMATION CONTACT: Sarah Schoedinger at sarah.schoedinger@noaa.gov, telephone 202-482-2893, or Beth Day at elizabeth.day@noaa.gov, telephone 301-713-2431 x 148.

SUPPLEMENTARY INFORMATION: This notice announces that OESD is soliciting 1- to 3-year proposals for environmental literacy projects. Funded projects will further NOAA's education goals articulated in the NOAA Education Plan http://www.oesd.noaa.gov/NOAA_Ed_Plan.pdf. Funding is available to encourage the development of partnerships and to support existing, or foster growth of new, environmental literacy projects. This program has two funding priorities for FY05: (1) Partnerships that promote systemic change in NOAA-related science education, and (2) innovative presentation of NOAA science and earth observing data through educational data visualizations and other educational tools. Within priority two, NOAA has committed to funding the installation of up to four “Science on a Sphere” (SOS) data systems at informal education venues. These “Science on a Sphere” installations will be funded by way of one- to three-year cooperative agreements. It is anticipated that final recommendations for funding under this announcement will be made in mid-calendar year 2005, and that projects funded under this announcement will have a start date no earlier than September 30, 2005. A detailed description for each program priority is in the full funding opportunity announcement that can be accessed via the Grants.gov website, the NOAA web site at http://www.ofa.noaa.gov/%7Eamd/SOLINDEX.HTML, or by contacting the program officials identified in FOR FURTHER INFORMATION CONTACT.

Electronic Access

The full text of the full funding opportunity announcement for this OESD program can be accessed via the Grants.gov FIND Web site. This announcement will also be available at the NOAA Web site: http://www.ofa.noaa.gov/%7Eamd/SOLINDEX.HTML or by contacting the program officials identified under FOR FURTHER INFORMATION CONTACT. This Federal Register notice is available through the NOAA home page at: http://www.noaa.gov/.

Statutory Authority: 15 U.S.C. 1540

CFDA: 11.469, Congressionally Identified Awards and Projects

Funding Availability

NOAA announces the availability of approximately $2,500,000 of Federal financial assistance in FY 2005 for Environmental Literacy projects. Approximately 5 to 10 awards in the form of grants or cooperative agreements with a regional to national focus will be made. Projects of 1 to 3 years in duration will be considered. The total budget for any single project shall not exceed $500,000 and must have a minimum annual budget of $100,000, except for “Science on a Sphere” installations, which can have total project budgets of no less than $10,000. Of the approximately $2,500,000 of Federal financial assistance available in FY 2005, no more than $280,000 is available for the four “Science on a Sphere” installations. Applications with project budgets of less than $100,000 or more than $500,000 will not be considered for review, except for “Science on a Sphere” installations, which can have total project budgets of no less than $10,000.

There is no guarantee that sufficient funds will be available to make awards for all qualified projects. Publication of this notice does not oblige NOAA to award any specific project or to obligate any available funds. If an applicant incurs any costs prior to receiving an award agreement signed by an authorized NOAA official, the applicant would do so solely at one's own risk of such costs not being included under the award.

Eligibility

Eligible applicants are institutions of higher education, other nonprofits, commercial organizations, and state, local and Indian tribal governments. Federal agencies or institutions are not eligible to receive Federal assistance under this announcement, but may be project partners.

Among those eligible applicants are K through 12 public and independent schools and school systems, and science centers and museums.

The Department of Commerce/National Oceanic and Atmospheric Administration (DOC/NOAA) is strongly committed to increasing the participation of Historically Black Colleges and Universities, Hispanic-serving institutions, Tribal colleges and universities, and institutions that work in underserved communities. Proposals are encouraged that involve any of the above institutions.

Cost Sharing Requirements

There are no cost-sharing requirements.

Evaluation and Selection Procedures

NOAA published its agency-wide solicitation entitled ''Omnibus Notice Announcing the Availability of Grant Funds for Fiscal Year 2005'' for projects for Fiscal Year 2005 in the Federal Register on June 30, 2004 (69 FR 39417). The evaluation criteria and selection procedures for projects contained in that omnibus notice are applicable to this solicitation. Copies of the notice are available on the Internet at: http://www.ofa.noaa.gov%7Eamd/SOLINDEX.HTML. Further details on evaluation and selection criteria can be found in the full funding opportunity announcement.

Intergovernmental Review

Applications under this program are not subject to Executive Order 12372, “Intergovernmental Review of Federal programs.”

Limitation of Liability

In no event will NOAA or the Department of Commerce be responsible for proposal preparation costs if this program is cancelled because of other agency priorities. Publication of this announcement does not oblige NOAA to award any specific project or to obligate any available funds. Applicants are hereby given notice that funding for the Fiscal Year 2005 program is contingent upon the availability of Fiscal Year 2005 appropriations.

National Environmental Policy Act (NEPA)

NOAA must analyze the potential environmental impacts, as required by NEPA, for applicant projects or proposals which are seeking NOAA Federal assistance. Detailed information on NOAA compliance with NEPA can be found at the following Web site: http://www.nepa.noaa.gov including NOAA Administrative Order 216 6 for NEPA at http://www.nepa.noaa.gov/ NAO216l6lTOC.pdf, and the Council on Environmental Quality implementation regulations at http://ceq.eh.doe.gov/nepa/regs/ceq/toclceq.htm. Consequently, as part of an applicant's package under the description of their program activities, applicants are required to provide detailed information on the activities to be conducted, locations, sites, species, and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analysis, applicants may also be requested to assist NOAA in drafting an environmental assessment, if NOAA determines an assessment is required. Applicants will also be required to cooperate with NOAA in identifying and implementing feasible measures to reduce or avoid any identified adverse environmental impacts of their proposal. The failure to do so shall be grounds for the denial of an application.

The Department of Commerce Pre-award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, and SF LLL, and CD 346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: March 22, 2005.
Helen Hurcombe,
Director, NOAA Aquisitions and Grants, U.S. Department of Commerce.

[FR Doc. 05-6054 Filed 3-25-05; 8:45 am]

BILLING CODE 3510-KA-S